DEPARTMENT OF ENERGY

Federal Energy Regulatory Commission

Combined Notice of Filings #1

March 29, 2021.

Take notice that the Commission received the following electric corporate filings:

Docket Numbers: EC21-68-000.

Applicants: Oleander Power Project, Limited Partnership.

Description: Application for Authorization Under Section 203 of the Federal Power Act of Oleander Power Project, Limited Partnership.

Filed Date: 3/26/21.

Accession Number: 20210326-5202.

Comments Due: 5 p.m. ET 4/16/21.

Docket Numbers: EC21-69-000.

Applicants: Sugar Solar, LLC, PGR 2020 Lessee 8, LLC.

Description: Application for Authorization Under Section 203 of the Federal Power Act of Sugar Solar, LLC, et al.

Filed Date: 3/29/21.

Accession Number: 20210329-5170.

Comments Due: 5 p.m. ET 4/19/21.

Docket Numbers: EC21-70-000.

Applicants: Elmwood Park Power, LLC.

Description: Application for Authorization Under Section 203 of the Federal Power Act of Elmwood Park Power, LLC.

Filed Date: 3/29/21.

Accession Number: 20210329-5174.

Comments Due: 5 p.m. ET 4/19/21.

Take notice that the Commission received the following electric rate filings:

Docket Numbers: ER11-4351-011.

Applicants: Pinnacle Wind, LLC.

Description: Notice of Change in Status of Pinnacle Wind, LLC.

Filed Date: 3/26/21.

Accession Number: 20210326-5199.

Comments Due: 5 p.m. ET 4/16/21.

Docket Numbers: ER13-1430-011.

Applicants: Arlington Valley Solar Energy II, LLC.

Description: Notice of Change in Status of Arlington Valley Solar Energy II, LLC.

Filed Date: 3/26/21.

Accession Number: 20210326-5257.

Comments Due: 5 p.m. ET 4/16/21.

Docket Numbers: ER13-2387-009; ER15-190-018; ER18-1343-010.

Applicants: Duke Energy Florida, LLC, Duke Energy Renewable Services, LLC, Carolina Solar Power, LLC.

Description: Notice of Non-Material Change in Status of Duke Energy Florida, LLC, et. al.

Filed Date: 3/26/21.

Accession Number: 20210326-5200.

Comments Due: 5 p.m. ET 4/16/21.

Docket Numbers: ER20-1750-004.

Applicants: Southwest Power Pool, Inc.

Description: Compliance filing: Compliance Filing in Response to Order issued in ER20-1750-001 to be effective 7/1/2020.

Filed Date: 3/29/21.

Accession Number: 20210329-5044.

Comments Due: 5 p.m. ET 4/19/21.

Docket Numbers: ER21-1532-000.

Applicants: Quitman II Solar, LLC.

Description: Baseline eTariff Filing: Quitman II Solar, LLC Application for MBR Authority to be effective 5/26/2021.

Filed Date: 3/26/21.

Accession Number: 20210326-5154.

Comments Due: 5 p.m. ET 4/16/21.

Docket Numbers: ER21-1533-000.

Applicants: Monongahela Power Company.

Description: § 205(d) Rate Filing: Revisions to Market-Based Rate Tariff of Monongahela Power to be effective 5/15/2021.

Filed Date: 3/26/21.

Accession Number: 20210326-5159.

Comments Due: 5 p.m. ET 4/16/21.

Docket Numbers: ER21-1534-000.

Applicants: Jersey Central Power & Light Company.

Description: § 205(d) Rate Filing: Revisions to Market-Based Rate Tariff of Jersey Central Power &#38; Light to be effective 5/15/2021.

Filed Date: 3/26/21.

Accession Number: 20210326-5164.

Comments Due: 5 p.m. ET 4/16/21.

Docket Numbers: ER21-1535-000.

Applicants: PJM Interconnection, L.L.C.

Description: Tariff Cancellation: Notice of Cancellation of ISA Nos. 1405 and 3888, and WMPA SA Nos. 2646 and 1752 to be effective 5/31/2021.

Filed Date: 3/26/21.

Accession Number: 20210326-5167.

Comments Due: 5 p.m. ET 4/16/21.

Docket Numbers: ER21-1536-000.

Applicants: California Independent System Operator Corporation.

Description: § 205(d) Rate Filing: 2021-03-26 2021 Summer Readiness to be effective 12/31/9998.

Filed Date: 3/26/21.

Accession Number: 20210326-5168.

Comments Due: 5 p.m. ET 4/16/21.

Docket Numbers: ER21-1538-000.

Applicants: Allegheny Energy Supply Company, LLC.

Description: § 205(d) Rate Filing: Revisions to Market-Based Rate Tariff of AE Supply to be effective 5/15/2021.

Filed Date: 3/26/21.

Accession Number: 20210326-5170.

Comments Due: 5 p.m. ET 4/16/21.

Docket Numbers: ER21-1539-000.

Applicants: PJM Interconnection, L.L.C.

Description: Tariff Cancellation: Notice of Cancellation of ISA Nos. 3468 and 3463 to be effective 6/1/2021.

Filed Date: 3/26/21.

Accession Number: 20210326-5174.

Comments Due: 5 p.m. ET 4/16/21.

Docket Numbers: ER21-1540-000.

Applicants: Pennsylvania Electric Company.

Description: § 205(d) Rate Filing: Revisions to Market-Based Rate Tariff of Penelec to be effective 5/15/2021.

Filed Date: 3/26/21.

Accession Number: 20210326-5175.

Comments Due: 5 p.m. ET 4/16/21.

Docket Numbers: ER21-1541-000.

Applicants: Solios Power Mid-Atlantic Virtual LLC.

Description: Tariff Cancellation: Notice of Cancellation of MBR Tariff to be effective 3/30/2021.

Filed Date: 3/29/21.

Accession Number: 20210329-5000.

Comments Due: 5 p.m. ET 4/19/21.

Docket Numbers: ER21-1542-000.

Applicants: Tri-State Generation and Transmission Association, Inc.

Description: § 205(d) Rate Filing: Amendment to Service Agreement No. 838 to be effective 3/25/2021.

Filed Date: 3/29/21.

Accession Number: 20210329-5051.

Comments Due: 5 p.m. ET 4/19/21.

Docket Numbers: ER21-1543-000.

Applicants: Midcontinent Independent System Operator, Inc.

Description: § 205(d) Rate Filing: 2021-03-29_SA 3408 Ameren Illinois-Glacier Sands Wind 1st Rev GIA (J1055 J1454) to be effective 3/18/2021.

Filed Date: 3/29/21.

Accession Number: 20210329-5052.

Comments Due: 5 p.m. ET 4/19/21.

Docket Numbers: ER21-1545-000.

Applicants: PJM Interconnection, L.L.C.

Description: § 205(d) Rate Filing: Amendment to WMPA SA No. 5523; Queue No. AE1-162 to be effective 10/29/2019.

Filed Date: 3/29/21.

Accession Number: 20210329-5075.

Comments Due: 5 p.m. ET 4/19/21.

Docket Numbers: ER21-1546-000.

Applicants: DTE Electric Company.

Description: § 205(d) Rate Filing: Update to Reactive Revenue Volume No. 5 to be effective 6/1/2021.

Filed Date: 3/29/21.

Accession Number: 20210329-5080.

Comments Due: 5 p.m. ET 4/19/21.

Docket Numbers: ER21-1547-000.

Applicants: PacifiCorp.

Description: § 205(d) Rate Filing: OATT Revised Attachment H-1 (Rev Depreciation Rates 2021) to be effective 6/1/2021.

Filed Date: 3/29/21.

Accession Number: 20210329-5097.

Comments Due: 5 p.m. ET 4/19/21.

Docket Numbers: ER21-1548-000.

Applicants: Indiana Michigan Power Company, PJM Interconnection, L.L.C.

Description: § 205(d) Rate Filing: AEP submits I&M & NIPSCO Interconnection Agreement SA No. 1263 to be effective 3/5/2021.

Filed Date: 3/29/21.

Accession Number: 20210329-5120.

Comments Due: 5 p.m. ET 4/19/21.

Docket Numbers: ER21-1549-000.

Applicants: Southwest Power Pool, Inc.

Description: § 205(d) Rate Filing: 3620R2 Kansas City Board of Public Utilities NITSA NOA to be effective 3/1/2021.

Filed Date: 3/29/21.

Accession Number: 20210329-5134.

Comments Due: 5 p.m. ET 4/19/21.

Docket Numbers: ER21-1550-000.

Applicants: Evergy Kansas Central, Inc.

Description: § 205(d) Rate Filing: Revisions, Full Requirements Electric Service Agreements to be effective 5/31/2021.

Filed Date: 3/29/21.

Accession Number: 20210329-5141.

Comments Due: 5 p.m. ET 4/19/21.

Docket Numbers: ER21-1551-000.

Applicants: California Independent System Operator Corporation.

Description: § 205(d) Rate Filing: 2021-03-29 Resource Adequacy Enhancements Tariff Amendment to be effective 6/1/2021.

Filed Date: 3/29/21.

Accession Number: 20210329-5191.

Comments Due: 5 p.m. ET 4/19/21.

Docket Numbers: ER21-1552-000.

Applicants: Union Electric Company.

Description: § 205(d) Rate Filing: Volume No. 1, Market Based Rate Tariff to be effective 3/30/2021.

Filed Date: 3/29/21.

Accession Number: 20210329-5196.

Comments Due: 5 p.m. ET 4/19/21.

Take notice that the Commission received the following electric securities filings:

Docket Numbers: ES21-34-000.

Applicants: ISO New England Inc.

Description: Application Under Section 204 of the Federal Power Act for an Order Authorizing Future Drawdowns Under Existing Authorized Securities of ISO New England Inc.

Filed Date: 3/26/21.

Accession Number: 20210326-5148.

Comments Due: 5 p.m. ET 4/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2021.
Nathaniel J. Davis, Sr.,
Deputy Secretary.

[FR Doc. 2021-06819 Filed 4-1-21; 8:45 am]

BILLING CODE 6717-01-P